DEPARTMENT OF TRANSPORTATION

Federal Aviation Administration

14 CFR Part 97

[Docket No. 31007; Amdt. No. 3634]

Standard Instrument Approach Procedures, and Takeoff Minimums and Obstacle Departure Procedures; Miscellaneous Amendments

AGENCY: Federal Aviation Administration (FAA), DOT.

ACTION: Final rule.

SUMMARY: This rule amends, suspends, or removes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide for the safe and efficient use of the navigable airspace and to promote safe flight operations under instrument flight rules at the affected airports.

DATES: This rule is effective March 20, 2015. The compliance date for each SIAP, associated Takeoff Minimums, and ODP is specified in the amendatory provisions.

The incorporation by reference of certain publications listed in the regulations is approved by the Director of the Federal Register as of March 20, 2015.

ADDRESSES: Availability of matter incorporated by reference in the amendment is as follows:

For Examination

1. U.S. Department of Transportation, Docket Ops—M30, 1200 New Jersey Avenue SE., West Bldg., Ground Floor, Washington, DC, 20590-0001;

2. The FAA Air Traffic Organization Service Area in which the affected airport is located;

3. The office of Aeronautical Navigation Products, 6500 South MacArthur Blvd., Oklahoma City, OK 73169 or,

4. The National Archives and Records Administration (NARA). For information on the availability of this material at NARA, call 202-741-6030, or go to: http://www.archives.gov/federal_register/code_of_federal_regulations/ibr_locations.html.

Availability

All SIAPs and Takeoff Minimums and ODPs are available online free of charge. Visit the National Flight Data Center online at nfdc.faa.gov to register. Additionally, individual SIAP and Takeoff Minimums and ODP copies may be obtained from the FAA Air Traffic Organization Service Area in which the affected airport is located.

FOR FURTHER INFORMATION CONTACT: Richard A. Dunham III, Flight Procedure Standards Branch (AFS-420) Flight Technologies and Procedures Division, Flight Standards Service, Federal Aviation Administration, Mike Monroney Aeronautical Center, 6500 South MacArthur Blvd., Oklahoma City, OK 73169 (Mail Address: P.O. Box 25082 Oklahoma City, OK 73125) telephone: (405) 954-4164.

SUPPLEMENTARY INFORMATION: This rule amends Title 14, Code of Federal Regulations, Part 97 (14 CFR part 97) by amending the referenced SIAPs. The complete regulatory description of each SIAP is listed on the appropriate FAA Form 8260, as modified by the National Flight Data Center (NFDC)/Permanent Notice to Airmen (P-NOTAM), and is incorporated by reference under 5 U.S.C. 552(a), 1 CFR part 51, and 14 CFR 97.20. The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained on FAA form documents is unnecessary.

This amendment provides the affected CFR sections, and specifies the SIAPs and Takeoff Minimums and ODPs with their applicable effective dates. This amendment also identifies the airport and its location, the procedure and the amendment number.

Availability and Summary of Material Incorporated by Reference

The material incorporated by reference is publicly available as listed in the ADDRESSES section.

The material incorporated by reference describes SIAPs, Takeoff Minimums and ODPs as identified in the amendatory language for part 97 of this final rule.

The Rule

This amendment to 14 CFR part 97 is effective upon publication of each separate SIAP and Takeoff Minimums and ODP as amended in the transmittal. For safety and timeliness of change considerations, this amendment incorporates only specific changes contained for each SIAP and Takeoff Minimums and ODP as modified by FDC permanent NOTAMs.

The SIAPs and Takeoff Minimums and ODPs, as modified by FDC permanent NOTAM, and contained in this amendment are based on the criteria contained in the U.S. Standard for Terminal Instrument Procedures (TERPS). In developing these changes to SIAPs and Takeoff Minimums and ODPs, the TERPS criteria were applied only to specific conditions existing at the affected airports. All SIAP amendments in this rule have been previously issued by the FAA in a FDC NOTAM as an emergency action of immediate flight safety relating directly to published aeronautical charts.

The circumstances that created the need for these SIAP and Takeoff Minimums and ODP amendments require making them effective in less than 30 days.

Because of the close and immediate relationship between these SIAPs, Takeoff Minimums and ODPs, and safety in air commerce, I find that notice and public procedure under 5 U.S.C. 553(b) are impracticable and contrary to the public interest and, where applicable, under 5 U.S.C. 553(d), good cause exists for making these SIAPs effective in less than 30 days.

The FAA has determined that this regulation only involves an established body of technical regulations for which frequent and routine amendments are necessary to keep them operationally current. It, therefore—(1) is not a “significant regulatory action” under Executive Order 12866; (2) is not a “significant rule” under DOT regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, Navigation (air).

Issued in Washington, DC, on February 27, 2015.
John Duncan,
Director, Flight Standards Service.

Adoption of the Amendment

Accordingly, pursuant to the authority delegated to me, Title 14, Code of Federal regulations, Part 97, (14 CFR part 97), is amended by amending Standard Instrument Approach Procedures and Takeoff Minimums and ODPs, effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

§§ 97.23, 97.25, 97.27, 97.29, 97.31, 97.33, 97.35 [AMENDED]

By amending: § 97.23 VOR, VOR/DME, VOR or TACAN, and VOR/DME or TACAN; § 97.25 LOC, LOC/DME, LDA, LDA/DME, SDF, SDF/DME; § 97.27 NDB, NDB/DME; § 97.29 ILS, ILS/DME, MLS, MLS/DME, MLS/RNAV; § 97.31 RADAR SIAPs; § 97.33 RNAV SIAPs; and § 97.35 COPTER SIAPs, Identified as follows:

* * * Effective Upon Publication

AIRAC Date | State | City | Airport | FDC No. | FDC Date | Subject
2-Apr-15 | MI | Lapeer | Dupont-Lapeer | 4/0291 | 02/11/15 | RNAV (GPS) RWY 18, Orig.
2-Apr-15 | ND | Rolla | Rolla Muni | 4/0303 | 02/12/15 | RNAV (GPS) RWY 32, Orig.
2-Apr-15 | MI | Hancock | Houghton County Memorial | 4/0405 | 02/11/15 | RNAV (GPS) RWY 13, Amdt 1.
2-Apr-15 | MI | Hancock | Houghton County Memorial | 4/0436 | 02/11/15 | RNAV (GPS) RWY 7, Amdt 1.
2-Apr-15 | MI | Grand Ledge | Abrams Muni | 4/0439 | 02/11/15 | RNAV (GPS) RWY 9, Orig.
2-Apr-15 | MI | Lapeer | Dupont-Lapeer | 4/0559 | 02/11/15 | RNAV (GPS) RWY 36, Orig.
2-Apr-15 | MI | Marlette | Marlette | 4/0697 | 02/11/15 | RNAV (GPS) RWY 27, Amdt 1.
2-Apr-15 | MI | Marlette | Marlette | 4/0698 | 02/11/15 | RNAV (GPS) RWY 9, Amdt 1.
2-Apr-15 | MN | Perham | Perham Muni | 4/0802 | 02/12/15 | RNAV (GPS) RWY 13, Orig.
2-Apr-15 | MN | Cook | Cook Muni | 4/0981 | 02/11/15 | RNAV (GPS) RWY 31, Amdt 1.
2-Apr-15 | MN | Cook | Cook Muni | 4/0982 | 02/11/15 | RNAV (GPS) RWY 13, Orig.
2-Apr-15 | NY | Poughkeepsie | Dutchess County | 5/0213 | 02/12/15 | ILS OR LOC RWY 6, Amdt 6A.
2-Apr-15 | NY | Poughkeepsie | Dutchess County | 5/0214 | 02/12/15 | RNAV (GPS) RWY 6, Orig-A.
2-Apr-15 | NY | Poughkeepsie | Dutchess County | 5/0215 | 02/12/15 | VOR/DME RWY 6, Amdt 7.
2-Apr-15 | NY | Poughkeepsie | Dutchess County | 5/0216 | 02/12/15 | RNAV (GPS) RWY 24, Orig-A.
2-Apr-15 | NY | Poughkeepsie | Dutchess County | 5/0217 | 02/12/15 | VOR/DME RWY 24, Amdt 4B.
2-Apr-15 | NY | Poughkeepsie | Dutchess County | 5/0218 | 02/12/15 | VOR A, Amdt 11A.
2-Apr-15 | TN | Murfreesboro | Murfreesboro Muni | 5/0816 | 02/12/15 | RNAV (GPS) RWY 18, Amdt 1B.
2-Apr-15 | TN | Murfreesboro | Murfreesboro Muni | 5/0817 | 02/12/15 | RNAV (GPS) RWY 36, Amdt 2A.
2-Apr-15 | NC | Hickory | Hickory Rgnl | 5/0831 | 02/12/15 | VOR/DME RWY 24, Orig-D.
2-Apr-15 | PA | Franklin | Venango Rgnl | 5/0852 | 02/12/15 | RNAV (GPS) RWY 3, Amdt 1.
2-Apr-15 | PA | Franklin | Venango Rgnl | 5/0853 | 02/12/15 | VOR RWY 3, Amdt 5.
2-Apr-15 | PA | Franklin | Venango Rgnl | 5/0854 | 02/12/15 | RNAV (GPS) RWY 21, Amdt 1.
2-Apr-15 | PA | Franklin | Venango Rgnl | 5/0855 | 02/12/15 | ILS OR LOC RWY 21, Amdt 6.
2-Apr-15 | TN | Morristown | Moore-Murrell | 5/1167 | 02/11/15 | RNAV (GPS) RWY 23, Orig-B.
2-Apr-15 | MT | Forsyth | Tillitt Field | 5/1183 | 02/12/15 | RNAV (GPS) RWY 26, Orig-D.
2-Apr-15 | MT | Forsyth | Tillitt Field | 5/1185 | 02/12/15 | NDB RWY 26, Amdt 3C.
2-Apr-15 | MT | Colstrip | Colstrip | 5/1191 | 02/12/15 | GPS RWY 24, Orig-B.
2-Apr-15 | MT | Colstrip | Colstrip | 5/1192 | 02/12/15 | GPS RWY 6, Orig-C.
2-Apr-15 | MT | Scobey | Scobey | 5/1228 | 02/12/15 | RNAV (GPS) RWY 12, Orig-A.
2-Apr-15 | CA | Sacramento | Sacramento Executive | 5/1230 | 02/12/15 | RNAV (GPS) RWY 2, Orig-B.
2-Apr-15 | KS | Wichita | Wichita Dwight D. Eisenhower National | 5/1260 | 02/18/15 | ILS OR LOC RWY 19L, Amdt 1.
2-Apr-15 | OK | Oklahoma City | Wiley Post | 5/1269 | 02/18/15 | VOR RWY 17L, Amdt 11A.
2-Apr-15 | OK | Oklahoma City | Wiley Post | 5/1271 | 02/18/15 | VOR RWY 35R, Amdt 3C.
2-Apr-15 | OK | Oklahoma City | Wiley Post | 5/1272 | 02/18/15 | VOR-A, Amdt 2A.
2-Apr-15 | WI | Burlington | Burlington Muni | 5/1493 | 02/11/15 | RNAV (GPS) RWY 11, Orig.
2-Apr-15 | WI | Burlington | Burlington Muni | 5/1494 | 02/11/15 | RNAV (GPS) RWY 29, Amdt 1.
2-Apr-15 | WI | Burlington | Burlington Muni | 5/1495 | 02/11/15 | VOR RWY 29, Amdt 8A.
2-Apr-15 | WI | Milwaukee | Lawrence J Timmerman | 5/1497 | 02/11/15 | RNAV (GPS) RWY 22R, Orig-B.
2-Apr-15 | WI | Milwaukee | Lawrence J Timmerman | 5/1498 | 02/11/15 | RNAV (GPS) RWY 4L, Orig-A.
2-Apr-15 | WI | Milwaukee | Lawrence J Timmerman | 5/1499 | 02/11/15 | VOR RWY 4L, Amdt 9A.
2-Apr-15 | WI | Milwaukee | Lawrence J Timmerman | 5/1500 | 02/11/15 | VOR RWY 15L, Amdt 14A.
2-Apr-15 | WI | Milwaukee | Lawrence J Timmerman | 5/1501 | 02/11/15 | RNAV (GPS) RWY 15L, Orig-A.
2-Apr-15 | WI | Oconto | J. Douglas Bake Memorial | 5/1502 | 02/12/15 | RNAV (GPS) RWY 29, Orig.
2-Apr-15 | WI | Oconto | J. Douglas Bake Memorial | 5/1507 | 02/12/15 | RNAV (GPS) RWY 11, Orig.
2-Apr-15 | WV | Morgantown | Morgantown Muni-Walter L Bill Hart Fld | 5/1939 | 02/18/15 | RNAV (GPS) Y RWY 18, Orig.
2-Apr-15 | WV | Morgantown | Morgantown Muni-Walter L Bill Hart Fld | 5/1941 | 02/18/15 | RNAV (GPS) RWY 36, Orig.
2-Apr-15 | GA | Fort Stewart (Hinesville) | Wright AAF (Fort Stewart)/Midcoast Rgnl | 5/1962 | 02/12/15 | RNAV (GPS) RWY 6L, Orig-B.
2-Apr-15 | OH | Kent | Kent State Univ | 5/2335 | 02/18/15 | NDB RWY 1, Amdt 13.
2-Apr-15 | WI | Waupaca | Waupaca Muni | 5/2336 | 02/19/15 | RNAV (GPS) RWY 10, Amdt 1.
2-Apr-15 | WI | Waupaca | Waupaca Muni | 5/2337 | 02/19/15 | RNAV (GPS) RWY 28, Amdt 1.
2-Apr-15 | WI | Phillips | Price County | 5/2340 | 02/18/15 | RNAV (GPS) RWY 19, Orig-A.
2-Apr-15 | WI | Phillips | Price County | 5/2341 | 02/18/15 | RNAV (GPS) RWY 24, Orig.
2-Apr-15 | WI | Phillips | Price County | 5/2342 | 02/18/15 | RNAV (GPS) RWY 6, Orig.
2-Apr-15 | WI | Oshkosh | Wittman Rgnl | 5/2343 | 02/18/15 | NDB RWY 36, Amdt 6.
2-Apr-15 | WI | Oshkosh | Wittman Rgnl | 5/2344 | 02/18/15 | VOR RWY 36, Amdt 17.
2-Apr-15 | WI | Oshkosh | Wittman Rgnl | 5/2345 | 02/18/15 | ILS OR LOC RWY 36, Amdt 7.
2-Apr-15 | WI | Oshkosh | Wittman Rgnl | 5/2346 | 02/18/15 | VOR RWY 9, Amdt 10.
2-Apr-15 | WI | Oshkosh | Wittman Rgnl | 5/2347 | 02/18/15 | RNAV (GPS) RWY 9, Amdt 1.
2-Apr-15 | WI | Oshkosh | Wittman Rgnl | 5/2348 | 02/18/15 | VOR RWY 27, Amdt 5.
2-Apr-15 | WI | Oshkosh | Wittman Rgnl | 5/2349 | 02/18/15 | VOR RWY 18, Amdt 8.
2-Apr-15 | WI | Oshkosh | Wittman Rgnl | 5/2350 | 02/18/15 | LOC/DME BC RWY 18, Amdt 7.
2-Apr-15 | WI | Oshkosh | Wittman Rgnl | 5/2351 | 02/18/15 | RNAV (GPS) RWY 27, Amdt 1.
2-Apr-15 | WI | Oshkosh | Wittman Rgnl | 5/2352 | 02/18/15 | RNAV (GPS) RWY 18, Amdt 1.
2-Apr-15 | WI | Osceola | L O Simenstad Muni | 5/2376 | 02/18/15 | RNAV (GPS) RWY 10, Orig.
2-Apr-15 | WI | Osceola | L O Simenstad Muni | 5/2377 | 02/18/15 | RNAV (GPS) RWY 28, Amdt 1.
2-Apr-15 | MT | Helena | Helena Rgnl | 5/2923 | 02/19/15 | ILS OR LOC Z RWY 27, Amdt 2.
2-Apr-15 | DC | Washington | Ronald Reagan Washington National | 5/3144 | 02/18/15 | ILS OR LOC/DME RWY 1, ILS RWY 1 (SA CAT I), ILS RWY 1 (CAT II), Amdt 41A.
2-Apr-15 | DC | Washington | Ronald Reagan Washington National | 5/3145 | 02/18/15 | VOR/DME OR GPS RWY 19, Amdt 9B.
2-Apr-15 | DC | Washington | Ronald Reagan Washington National | 5/3146 | 02/18/15 | VOR/DME RWY 1, Amdt 14A.
2-Apr-15 | OK | Norman | University Of Oklahoma Westheimer | 5/4830 | 02/12/15 | RNAV (GPS) RWY 35, Orig.
2-Apr-15 | OK | Norman | University Of Oklahoma Westheimer | 5/4831 | 02/12/15 | RNAV (GPS) RWY 3, Amdt 2.
2-Apr-15 | TX | Waco | Waco Rgnl | 5/4860 | 02/06/15 | VOR RWY 14, Amdt 23A.
2-Apr-15 | TX | Dalhart | Dalhart Muni | 5/4883 | 02/11/15 | RNAV (GPS) RWY 35, Orig.
2-Apr-15 | TX | Dalhart | Dalhart Muni | 5/4884 | 02/11/15 | VOR/DME RWY 35, Amdt 3.
2-Apr-15 | TX | Dalhart | Dalhart Muni | 5/4885 | 02/11/15 | RNAV (GPS) RWY 17, Orig.
2-Apr-15 | TX | Dalhart | Dalhart Muni | 5/4886 | 02/11/15 | VOR RWY 17, Amdt 12C.
2-Apr-15 | TX | Houston | Ellington | 5/5257 | 02/11/15 | ILS OR LOC RWY 35L, Amdt 6.
2-Apr-15 | TX | Houston | Ellington | 5/5258 | 02/11/15 | RNAV (GPS) RWY 35L, Amdt 1.
2-Apr-15 | KS | Wichita | Wichita Dwight D. Eisenhower National | 5/5842 | 02/24/15 | ILS OR LOC RWY 19R, Amdt 5F.
2-Apr-15 | TX | Hearne | Hearne Muni | 5/6879 | 02/11/15 | RNAV (GPS) RWY 36, Orig.
2-Apr-15 | TX | Levelland | Levelland Muni | 5/6888 | 02/11/15 | RNAV (GPS) RWY 35, Amdt 1.
2-Apr-15 | TX | Levelland | Levelland Muni | 5/6889 | 02/11/15 | RNAV (GPS) RWY 17, Amdt 1.
2-Apr-15 | TX | Laredo | Laredo Intl | 5/6917 | 02/11/15 | RNAV (GPS) RWY 17R, Amdt 1.
2-Apr-15 | TX | Laredo | Laredo Intl | 5/6918 | 02/11/15 | ILS OR LOC/DME RWY 17R, Amdt 11.
2-Apr-15 | TX | Laredo | Laredo Intl | 5/6919 | 02/11/15 | RNAV (GPS) RWY 35L, Amdt 2.
2-Apr-15 | TX | Laredo | Laredo Intl | 5/6920 | 02/11/15 | RNAV (GPS) RWY 32, Amdt 1.
2-Apr-15 | TX | Houston | Pearland Rgnl | 5/7016 | 02/11/15 | RNAV (GPS) RWY 32, Amdt 4.
2-Apr-15 | TX | Mexia | Mexia-Limestone Co | 5/7027 | 02/11/15 | RNAV (GPS) RWY 36, Orig.
2-Apr-15 | TX | Midland | Midland Intl | 5/7041 | 02/11/15 | ILS OR LOC RWY 10, Amdt 16.
2-Apr-15 | TX | Midland | Midland Intl | 5/7042 | 02/11/15 | RNAV (GPS) RWY 16R, Amdt 1.
2-Apr-15 | TX | Midland | Midland Intl | 5/7043 | 02/11/15 | RNAV (GPS) RWY 22, Amdt 1.
2-Apr-15 | TX | Midland | Midland Intl | 5/7044 | 02/11/15 | RNAV (GPS) RWY 10, Amdt 2.
2-Apr-15 | TX | Midland | Midland Intl | 5/7045 | 02/11/15 | RNAV (GPS) RWY 4, Amdt 1.
2-Apr-15 | TX | Midland | Midland Intl | 5/7046 | 02/11/15 | VOR OR TACAN RWY 16R, Amdt 23.
2-Apr-15 | TX | Midland | Midland Intl | 5/7057 | 02/11/15 | RNAV (GPS) RWY 34L, Amdt 1.
2-Apr-15 | TX | Midland | Midland Intl | 5/7066 | 02/11/15 | VOR/DME OR TACAN RWY 34L, Amdt 10.
2-Apr-15 | TX | Midland | Midland Intl | 5/7067 | 02/11/15 | RNAV (GPS) RWY 28, Amdt 2.
2-Apr-15 | TX | Midland | Midland Airpark | 5/7158 | 02/11/15 | VOR/DME RWY 25, Amdt 3B.
2-Apr-15 | TX | Midland | Midland Airpark | 5/7159 | 02/11/15 | RNAV (GPS) RWY 34, Orig.
2-Apr-15 | TX | Midland | Midland Airpark | 5/7160 | 02/11/15 | RNAV (GPS) RWY 25, Orig.
2-Apr-15 | TX | Marfa | Marfa Muni | 5/7170 | 02/12/15 | VOR RWY 31, Amdt 6.
2-Apr-15 | TX | Marfa | Marfa Muni | 5/7171 | 02/12/15 | RNAV (GPS) RWY 31, Orig.
2-Apr-15 | TX | Nacogdoches | A L Mangham Jr Rgnl | 5/7175 | 02/11/15 | ILS OR LOC RWY 36, Amdt 3A.
2-Apr-15 | TX | Nacogdoches | A L Mangham Jr Rgnl | 5/7176 | 02/11/15 | RNAV (GPS) RWY 36, Orig.
2-Apr-15 | TX | Olney | Olney Muni | 5/7179 | 02/12/15 | RNAV (GPS) RWY 35, Orig.
2-Apr-15 | AZ | Flagstaff | Flagstaff Pulliam | 5/7312 | 02/11/15 | RNAV (GPS) Y RWY 21, Orig-A.
2-Apr-15 | TX | Pampa | Perry Lefors Field | 5/7711 | 02/12/15 | RNAV (GPS) RWY 17, Orig.
2-Apr-15 | TX | Pampa | Perry Lefors Field | 5/7712 | 02/12/15 | NDB RWY 17, Amdt 5.
2-Apr-15 | TX | Palacios | Palacios Muni | 5/7715 | 02/12/15 | RNAV (GPS) RWY 13, Orig.
2-Apr-15 | TX | Houston | Sugar Land Rgnl | 5/8119 | 02/11/15 | ILS OR LOC RWY 35, Amdt 4.
2-Apr-15 | TX | Houston | Sugar Land Rgnl | 5/8120 | 02/11/15 | RNAV (GPS) RWY 35, Amdt 2.
2-Apr-15 | SC | Darlington | Darlington County Jetport | 5/8145 | 02/18/15 | RNAV (GPS) RWY 5, Orig-A.
2-Apr-15 | SC | Darlington | Darlington County Jetport | 5/8146 | 02/18/15 | RNAV (GPS) RWY 23, Orig-A.
2-Apr-15 | PA | Washington | Washington County | 5/8148 | 02/12/15 | RNAV (GPS) RWY 9, Amdt 1C.
2-Apr-15 | PA | Washington | Washington County | 5/8149 | 02/12/15 | RNAV (GPS) RWY 27, Amdt 1A.
2-Apr-15 | PA | Washington | Washington County | 5/8150 | 02/12/15 | ILS OR LOC RWY 27, Amdt 1A.
2-Apr-15 | AL | Prattville | Prattville—Grouby Field | 5/8151 | 02/12/15 | RNAV (GPS) RWY 27, Orig-C.
2-Apr-15 | AL | Prattville | Prattville—Grouby Field | 5/8152 | 02/12/15 | RNAV (GPS) RWY 9, Amdt 2C.
2-Apr-15 | AL | Prattville | Prattville—Grouby Field | 5/8153 | 02/12/15 | VOR/DME-A, Amdt 3A.
2-Apr-15 | RI | North Kingstown | Quonset State | 5/8157 | 02/12/15 | ILS OR LOC RWY 16, Amdt 10C.
2-Apr-15 | RI | North Kingstown | Quonset State | 5/8158 | 02/12/15 | RNAV (GPS) RWY 34, Orig-B.
2-Apr-15 | RI | North Kingstown | Quonset State | 5/8159 | 02/12/15 | RNAV (GPS) RWY 16, Orig-B.
2-Apr-15 | RI | North Kingstown | Quonset State | 5/8160 | 02/12/15 | VOR RWY 34, Amdt 2A.
2-Apr-15 | RI | North Kingstown | Quonset State | 5/8161 | 02/12/15 | VOR-A, Amdt 5B.
2-Apr-15 | KY | Springfield | Lebanon-Springfield | 5/8166 | 02/12/15 | RNAV (GPS) RWY 11, Orig-A.
2-Apr-15 | KY | Springfield | Lebanon-Springfield | 5/8167 | 02/12/15 | VOR/DME RWY 11, Amdt 4A.
2-Apr-15 | KY | Springfield | Lebanon-Springfield | 5/8168 | 02/12/15 | RNAV (GPS) RWY 29, Orig-B.
2-Apr-15 | TX | Sherman | Sherman Muni | 5/8322 | 02/12/15 | RNAV (GPS) RWY 34, Orig.
2-Apr-15 | TX | La Porte | La Porte Muni | 5/8324 | 02/11/15 | RNAV (GPS) RWY 30, Amdt 2.
2-Apr-15 | TX | Panhandle | Panhandle-Carson County | 5/8325 | 02/12/15 | RNAV (GPS) RWY 17, Orig.
2-Apr-15 | TX | Panhandle | Panhandle-Carson County | 5/8326 | 02/12/15 | RNAV (GPS) RWY 35, Orig.
2-Apr-15 | TX | Wheeler | Wheeler Muni | 5/8327 | 02/12/15 | RNAV (GPS) RWY 35, Orig.
2-Apr-15 | TX | Wheeler | Wheeler Muni | 5/8328 | 02/12/15 | RNAV (GPS) RWY 17, Orig.
2-Apr-15 | TX | Liberty | Liberty Muni | 5/8329 | 02/11/15 | RNAV (GPS) RWY 16, Amdt 2.
2-Apr-15 | TX | Fredericksburg | Gillespie County | 5/8330 | 02/11/15 | RNAV (GPS) RWY 14, Amdt 1.
2-Apr-15 | TX | Fredericksburg | Gillespie County | 5/8331 | 02/11/15 | RNAV (GPS) RWY 32, Amdt 1.
2-Apr-15 | TX | Victoria | Victoria Rgnl | 5/8337 | 02/12/15 | RNAV (GPS) RWY 31R, Amdt 1.
2-Apr-15 | TX | Victoria | Victoria Rgnl | 5/8338 | 02/12/15 | VOR/DME RWY 31R, Amdt 7.
2-Apr-15 | WI | Boyceville | Boyceville Muni | 5/8339 | 02/11/15 | RNAV (GPS) RWY 26, Amdt 2.
2-Apr-15 | WI | New Holstein | New Holstein Muni | 5/8340 | 02/12/15 | RNAV (GPS) RWY 14, Orig.
2-Apr-15 | WI | New Holstein | New Holstein Muni | 5/8341 | 02/12/15 | RNAV (GPS) RWY 32, Orig.
2-Apr-15 | WI | East Troy | East Troy Muni | 5/8342 | 02/11/15 | RNAV (GPS) RWY 8, Orig.
2-Apr-15 | WI | Middleton | Middleton Muni—Morey Field | 5/8344 | 02/11/15 | VOR RWY 10, Amdt 1.
2-Apr-15 | TX | Mason | Mason County | 5/8493 | 02/12/15 | RNAV (GPS) RWY 18, Orig-A.
2-Apr-15 | TX | Mason | Mason County | 5/8494 | 02/12/15 | Takeoff Minimums and (Obstacle) DP, Amdt 1.
2-Apr-15 | TX | Mason | Mason County | 5/8495 | 02/12/15 | RNAV (GPS) RWY 36, Orig-A.
2-Apr-15 | TX | Mason | Mason County | 5/8496 | 02/12/15 | VOR/DME-A, Amdt 4.
2-Apr-15 | NE | Omaha | Eppley Airfield | 5/9012 | 02/18/15 | ILS OR LOC/DME RWY 14R, ILS RWY 14R (SA CAT I), ILS RWY 14R (CAT II & III), Amdt 5A.
2-Apr-15 | AR | Corning | Corning Muni | 5/9337 | 02/11/15 | RNAV (GPS) RWY 18, Orig.
2-Apr-15 | AR | Corning | Corning Muni | 5/9338 | 02/11/15 | RNAV (GPS) RWY 36, Orig.
2-Apr-15 | AR | Corning | Corning Muni | 5/9339 | 02/11/15 | VOR/DME-A, Amdt 2.
2-Apr-15 | WI | Grantsburg | Grantsburg Muni | 5/9515 | 02/11/15 | RNAV (GPS) RWY 12, Orig.
2-Apr-15 | WI | Grantsburg | Grantsburg Muni | 5/9516 | 02/11/15 | RNAV (GPS) RWY 30, Orig.
2-Apr-15 | WI | Shawano | Shawano Muni | 5/9517 | 02/12/15 | RNAV (GPS) RWY 30, Orig-A.
2-Apr-15 | WI | Shawano | Shawano Muni | 5/9518 | 02/12/15 | RNAV (GPS) RWY 12, Orig.
2-Apr-15 | TX | Sweetwater | Avenger Field | 5/9519 | 02/12/15 | RNAV (GPS) RWY 22, Orig.
2-Apr-15 | TX | Sweetwater | Avenger Field | 5/9520 | 02/12/15 | RNAV (GPS) RWY 17, Orig.
2-Apr-15 | TX | Sweetwater | Avenger Field | 5/9521 | 02/12/15 | NDB RWY 17, Amdt 4.
2-Apr-15 | TX | Sulphur Springs | Sulphur Springs Muni | 5/9522 | 02/12/15 | RNAV (GPS) RWY 19, Orig.
2-Apr-15 | TX | Sulphur Springs | Sulphur Springs Muni | 5/9523 | 02/12/15 | RNAV (GPS) RWY 1, Amdt 1.
2-Apr-15 | WI | Wisconsin Rapids | Alexander Field South Wood County | 5/9524 | 02/12/15 | RNAV (GPS) RWY 2, Orig.
2-Apr-15 | WI | Antigo | Langlade County | 5/9525 | 02/11/15 | RNAV (GPS) RWY 9, Orig.
2-Apr-15 | WI | Antigo | Langlade County | 5/9526 | 02/11/15 | RNAV (GPS) RWY 17, Amdt 2.
2-Apr-15 | WI | Antigo | Langlade County | 5/9527 | 02/11/15 | RNAV (GPS) RWY 35, Amdt 2.
2-Apr-15 | WI | Wisconsin Rapids | Alexander Field South Wood County | 5/9528 | 02/12/15 | RNAV (GPS) RWY 20, Orig-A.
2-Apr-15 | WI | Wisconsin Rapids | Alexander Field South Wood County | 5/9529 | 02/12/15 | SDF RWY 2, Amdt 5.
2-Apr-15 | WI | Wisconsin Rapids | Alexander Field South Wood County | 5/9530 | 02/12/15 | NDB RWY 2, Amdt 6.
2-Apr-15 | WI | Wisconsin Rapids | Alexander Field South Wood County | 5/9531 | 02/12/15 | NDB RWY 30, Amdt 9.
2-Apr-15 | WI | Madison | Dane County Rgnl-Truax Field | 5/9532 | 02/11/15 | VOR/DME OR TACAN RWY 18, Amdt 1C.
2-Apr-15 | WI | Madison | Dane County Rgnl-Truax Field | 5/9533 | 02/11/15 | VOR RWY 18, Amdt 1B.
2-Apr-15 | WI | Madison | Dane County Rgnl-Truax Field | 5/9534 | 02/11/15 | ILS OR LOC/DME RWY 18, Amdt 1C.
2-Apr-15 | WI | Madison | Dane County Rgnl-Truax Field | 5/9535 | 02/11/15 | VOR RWY 14, Orig-B.
2-Apr-15 | WI | Madison | Dane County Rgnl-Truax Field | 5/9536 | 02/11/15 | RNAV (GPS) RWY 14, Amdt 2B.
2-Apr-15 | WI | Milwaukee | General Mitchell Intl | 5/9537 | 02/11/15 | LOC RWY 25L, Amdt 5.
2-Apr-15 | WI | Milwaukee | General Mitchell Intl | 5/9538 | 02/11/15 | RNAV (GPS) Z RWY 25L, Amdt 1B.
2-Apr-15 | WI | Milwaukee | General Mitchell Intl | 5/9539 | 02/11/15 | RNAV (RNP) Y RWY 25L, Orig.
2-Apr-15 | WI | Mineral Point | Iowa County | 5/9540 | 02/11/15 | RNAV (GPS) RWY 4, Amdt 1.
2-Apr-15 | WI | Mineral Point | Iowa County | 5/9541 | 02/11/15 | RNAV (GPS) RWY 11, Amdt 1.
2-Apr-15 | WI | Wausau | Wausau Downtown | 5/9550 | 02/12/15 | RNAV (GPS) RWY 13, Amdt 1.
2-Apr-15 | WI | Wausau | Wausau Downtown | 5/9551 | 02/12/15 | RNAV (GPS) RWY 31, Orig.
2-Apr-15 | WI | Reedsburg | Reedsburg Muni | 5/9552 | 02/12/15 | RNAV (GPS) RWY 36, Orig.
2-Apr-15 | WI | Reedsburg | Reedsburg Muni | 5/9553 | 02/12/15 | RNAV (GPS) RWY 18, Orig.
2-Apr-15 | WI | Black River Falls | Black River Falls Area | 5/9554 | 02/11/15 | RNAV (GPS) RWY 8, Amdt 1.
2-Apr-15 | WI | Sparta | Sparta/Fort Mc Coy | 5/9555 | 02/12/15 | RNAV (GPS) RWY 11, Amdt 1.
2-Apr-15 | WI | Mosinee | Central Wisconsin | 5/9556 | 02/11/15 | RNAV (GPS) RWY 26, Amdt 1.
2-Apr-15 | WI | Mosinee | Central Wisconsin | 5/9557 | 02/11/15 | RNAV (GPS) RWY 35, Amdt 1.
2-Apr-15 | WI | Mosinee | Central Wisconsin | 5/9558 | 02/11/15 | RNAV (GPS) RWY 8, Amdt 1.
2-Apr-15 | WI | Mosinee | Central Wisconsin | 5/9559 | 02/11/15 | ILS OR LOC RWY 8, Amdt 13.
2-Apr-15 | WI | Mosinee | Central Wisconsin | 5/9560 | 02/11/15 | ILS OR LOC RWY 35, Amdt 2.
2-Apr-15 | WI | Mosinee | Central Wisconsin | 5/9561 | 02/11/15 | VOR/DME RWY 35, Amdt 9.
2-Apr-15 | WI | Baraboo | Baraboo Wisconsin Dells | 5/9562 | 02/11/15 | RNAV (GPS) RWY 19, Amdt 1.
2-Apr-15 | WI | Baraboo | Baraboo Wisconsin Dells | 5/9563 | 02/11/15 | LOC/DME RWY 1, Amdt 1A.
2-Apr-15 | WI | Baraboo | Baraboo Wisconsin Dells | 5/9564 | 02/11/15 | RNAV (GPS) RWY 1, Amdt 1.
2-Apr-15 | WI | Medford | Taylor County | 5/9567 | 02/11/15 | RNAV (GPS) RWY 9, Orig.
2-Apr-15 | WI | Medford | Taylor County | 5/9568 | 02/11/15 | RNAV (GPS) RWY 34, Orig.
2-Apr-15 | WI | Marshfield | Marshfield Muni | 5/9569 | 02/11/15 | RNAV (GPS) RWY 23, Orig.
2-Apr-15 | WI | Marshfield | Marshfield Muni | 5/9570 | 02/11/15 | RNAV (GPS) RWY 5, Orig.
2-Apr-15 | WI | Marshfield | Marshfield Muni | 5/9571 | 02/11/15 | NDB RWY 5, Amdt 14.
2-Apr-15 | WI | Hartford | Hartford Muni | 5/9572 | 02/11/15 | RNAV (GPS) RWY 29, Orig.
2-Apr-15 | WI | Hartford | Hartford Muni | 5/9573 | 02/11/15 | RNAV (GPS) RWY 11, Orig.
2-Apr-15 | NE | Ogallala | Searle Field | 5/9777 | 02/12/15 | VOR RWY 8, Amdt 6A.
2-Apr-15 | NE | Ogallala | Searle Field | 5/9778 | 02/12/15 | RNAV (GPS) RWY 13, Orig-B.
2-Apr-15 | NE | Ogallala | Searle Field | 5/9779 | 02/12/15 | RNAV (GPS) RWY 26, Amdt 2A.
2-Apr-15 | NE | Ogallala | Searle Field | 5/9780 | 02/12/15 | VOR RWY 26, Amdt 6A.
2-Apr-15 | NE | Ogallala | Searle Field | 5/9781 | 02/12/15 | VOR/DME RWY 26, Amdt 1A.
2-Apr-15 | NE | Ogallala | Searle Field | 5/9782 | 02/12/15 | RNAV (GPS) RWY 31, Orig-A.
2-Apr-15 | NE | Ogallala | Searle Field | 5/9783 | 02/12/15 | RNAV (GPS) RWY 8, Amdt 2A.
2-Apr-15 | NE | Ogallala | Searle Field | 5/9784 | 02/12/15 | VOR/DME RWY 8, Amdt 1A

[FR Doc. 2015-06251 Filed 3-19-15; 8:45 am]

BILLING CODE 4910-13-P